DEPARTMENT OF THE INTERIOR

Fish and Wildlife Service

[FWS-R7-SM-2009-N230] [70101-1261-0000-L6]

Information Collection Sent to the Office of Management and Budget (OMB) for Approval; OMB Control Number 1018-0075; Federal Subsistence Regulations and Associated Forms

AGENCY: Fish and Wildlife Service, Interior.

ACTION: Notice; request for comments.

SUMMARY: We (Fish and Wildlife Service) have sent an Information Collection Request (ICR) to OMB for review and approval. We summarize the ICR below and describe the nature of the collection and the estimated burden and cost. This information collection is scheduled to expire on October 31, 2009. We may not conduct or sponsor and a person is not required to respond to a collection of information unless it displays a currently valid OMB control number. However, under OMB regulations, we may continue to conduct or sponsor this information collection while it is pending at OMB.

DATES: You must send comments on or before November 23, 2009.

ADDRESSES: Send your comments and suggestions on this information collection to the Desk Officer for the Department of the Interior at OMB-OIRA at (202) 395-5806 (fax) or OIRA_DOCKET@OMB.eop.gov (e-mail). Please provide a copy of your comments to Hope Grey, Information Collection Clearance Officer, Fish and Wildlife Service, MS 222-ARLSQ, 4401 North Fairfax Drive, Arlington, VA 22203 (mail) or hope_grey@fws.gov (e-mail).

FOR FURTHER INFORMATION CONTACT: To request additional information about this ICR, contact Hope Grey by mail or e-mail (see ADDRESSES) or by telephone at (703) 358-2482.

SUPPLEMENTARY INFORMATION:

OMB Control Number: 1018-0075.

Title: Federal Subsistence Regulations and Associated Forms, 50 CFR 100 and 36 CFR 242.

Service Form Number(s): FWS Forms 3-2321, 3-2322, 3-2323, 3-2326, 3-2327, 3-2328, 3-2378, and 3-2379.

Type of Request: Revision of a currently approved collection.

Affected Public: Federally defined rural residents in Alaska.

Respondent's Obligation: Required to obtain or retain a benefit.

Frequency of Collection: On occasion.

Activity | Number of annual respondents | Number of annual responses | Completion time per response | Annual burden hours
FWS Form 3-2321 - Membership Application | 75 | 75 | 2 hours | 150
FWS Form 3-2322 - Applicant Interview | 75 | 75 | 30 minutes | 36
FWS Form 3-2323 - Reference/Contact Interview | 250 | 250 | 15 minutes | 62
3-2326 - Hunt Application and Permit | 5,000 | 5,000 | 10 minutes | 833
3-2326 - Hunt Report | 5,000 | 5,000 | 5 minutes | 417
3-2327 - Designated Hunter Application and Permit | 450 | 450 | 10 minutes | 75
3-2327 - Designated Hunter - Hunt Report | 450 | 450 | 5 minutes | 38
3-2328 - Fishing Application and Permit | 250 | 250 | 10 minutes | 42
3-2328 - Fishing Report | 250 | 250 | 5 minutes | 21
3-2378 - Designated Fishing Application and Permit | 450 | 450 | 10 minutes | 75
3-2378 - Designated Fishing Report | 450 | 450 | 5 minutes | 38
3-2379- Customary Trade Recordkeeping Application and Permit | 25 | 25 | 10 minutes | 4
3-2379 - Customary Trade Recordkeeping - Report | 25 | 25 | 5 minutes | 2
Petition to Repeal | 1 | 1 | 2 hours | 2
Proposed Changes | 75 | 75 | 30 minutes | 38
Special Actions Request | 25 | 25 | 30 minutes | 13
Request for Reconsideration (Appeal) | 3 | 3 | 4 hours | 12
Traditional/Cultural/Educational Permits and Reports | 20 | 20 | 30 minutes | 10
Fishwheel, Fyke Net, and Under Ice Permits and Reports | 8 | 8 | 15 minutes | 2
Totals | 12,882 | 12,882 |  | 1,872

Abstract: The Alaska Interest Lands Conservation Act (ANILCA) and regulations at 50 CFR 100 and 36 CFR 242 require that persons engaged in taking fish, shellfish, and wildlife on public lands in Alaska for subsistence uses apply for and obtain a permit to do so and comply with reporting provisions of that permit. Under the current approval for this information collection, we use three forms to collect information from qualified rural residents for subsistence harvest:

(1) FWS Form 3-2326 (Federal Subsistence Hunt Application, Permit, and Report).

(2) FWS Form 3-2327 (Designated Hunter Permit Application, Permit, and Report.

(3) FWS Form 3-2328 (Federal Subsistence Fishing Application, Permit, and Report.

We are proposing to add two new forms:

(1) FWS Form 3-2378 (Designated Fishing Permit Application, Permit, and Report).

(2) FWS Form 3-2379 (Federal Subsistence Customary Trade Recordkeeping Form).

We use the information collected to evaluate:

• Subsistence harvest success.

• Effectiveness of season lengths, harvest quotas, and harvest restrictions.

• Hunting patterns and practices.

• Hunter use.

The Federal Subsistence Board uses the harvest data, along with other information, to set future season dates and bag limits for Federal subsistence resource users. These seasons and bag limits are set to meet needs of subsistence hunters without adversely impacting the health of existing animal populations.

Also included in this ICR, are three forms associated with recruitment and selection of members for regional advisory councils. These forms are currently approved under OMB Control No. 1018-0120 (which will be discontinued upon approval of this ICR):

(1) FWS Form 2321 (Federal Subsistence Regional Advisory Council Membership Application/Nomination).

(2) FWS Form 2322 (Regional Advisory Council Candidate Interview).

(3) FWS Form 2323 (Regional Advisory Council Reference/Key Contact Interview).

The member selection process begins with the information that we collect on the application. Ten interagency review panels interview all applicants and nominees, their references, and regional key contacts. These contacts are all based on the information that the applicant provides on the application form. The information that we collect through the application form and subsequent interviews is the basis of the Federal Subsistence Board's recommendations to the Secretaries of the Interior and Agriculture for appointment and reappointment of council members.

During the renewal process for this ICR, we reviewed our regulations and discovered some information collection requirements not specifically addressed in our previous request for approval. Our regulations at 50 CFR 100 contain procedures for these requirements, including necessary documentation. We collect nonform information on:

(1) Repeal of Federal subsistence rules and regulations (50 CFR 100.14 and 36 CFR 242.14).

(2) Proposed changes to Federal subsistence regulations (50 CFR 100.18 and 36 CFR 242.18).

(3) Special action requests (50 CFR 100.19 and 36 CFR 242.19).

(4) Requests for reconsideration (50 CFR 100.20 and 36 CFR 242.20).

(5) Requests for permits and reports, such as traditional religious/cultural/educational permits; fishwheel permits; fyke net permits; and under ice permits (50 CFR 100.25-27 and 36 CFR 242.25-27).

Comments: On May 28, 2009, we published in the Federal Register (74 FR 25575) a notice of our intent to request that OMB renew this information collection. In that notice, we solicited comments for 60 days, ending on July 27, 2009. We did not receive any comments in response to that notice.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: October 19, 2009.
Hope Grey,
Information Collection Clearance Officer, Fish and Wildlife Service.

FR Doc. E9-25599 Filed 10-22-09; 8:45 am

BILLING CODE 4310-55-S